SECURITIES AND EXCHANGE COMMISSION

[SEC File No. 270-412, OMB Control No. 3235-0469]

Submission for OMB Review; Comment Request: Extension; Rule 17Ad-17

Upon Written Request, Copies Available From: Securities and Exchange Commission, Office of FOIA Services, 100 F Street NE, Washington, DC 20549-2736

Notice is hereby given that pursuant to the Paperwork Reduction Act of 1995 (“PRA”) (44 U.S.C. 3501 et seq.), the Securities and Exchange Commission (“Commission”) has submitted to the Office of Management and Budget (“OMB”) a request for approval of extension of the previously approved collection of information provided for in Rule 17Ad-17 under the Securities Exchange Act of 1934 (15 U.S.C. 78a et seq.).

Rule 17Ad-17 requires certain transfer agents and broker-dealers to make two searches for the correct address of lost securityholders using an information database without charge to the lost securityholders. In addition, paying agents are required to attempt to notify lost payees at least once. In addition, the entities also are required to maintain records relating to the searches and notifications.

The Commission staff estimates that the rule applies to approximately 496 broker dealers and transfer agents, and 3,113 paying agent entities, including carrying firms, transfer agents, indenture trustees, custodians, and approximately 10% of issuers. The Commission staff estimates that the total annual burden for searches is approximately 183,813 hours and the total annual burden for paying agent notifications is approximately 38,913 hours. In addition, approximately 5,968 burden hours are associated with recordkeeping, representing an annual burden of 4,411 hours for the broker-dealers and transfer agents, and 1,557 for paying agents. The Commission staff estimates that the aggregate annual burden is therefore approximately 228,694 hours (183,813 + 38,913 + 5,968).

In addition, the Commission staff estimates that covered entities will incur costs of approximately $6,617,298 annually, primarily as payment to third party data base providers that will search for the missing securityholders.

The retention period for the recordkeeping requirement under Rule 17Ad-17 is not less than three years following the date the notice is submitted. The recordkeeping requirement under this rule is mandatory to assist the Commission in monitoring compliance with the rule. This rule does not involve the collection of confidential information.

An agency may not conduct or sponsor, and a person is not required to respond to, a collection of information under the PRA unless it displays a currently valid OMB control number.

The public may view background documentation for this information collection at the following website: > www.reginfo.gov<. Find this particular information collection by selecting “Currently under 30-day Review—Open for Public Comments” or by using the search function. Written comments and recommendations for the proposed information collection should be sent by September 12, 2022 to (i) >MBX.OMB.OIRA.SEC_desk_officer@omb.eop.gov< and (ii) David Bottom, Director/Chief Information Officer, Securities and Exchange Commission,c/o John Pezzullo, 100 F Street NE, Washington, DC 20549, or by sending an email to: PRA_Mailbox@sec.gov.

Dated: August 8, 2022.
J. Matthew DeLesDernier,
Deputy Secretary.

[FR Doc. 2022-17314 Filed 8-11-22; 8:45 am]

BILLING CODE 8011-01-P